DEPARTMENT OF THE INTERIOR

Fish and Wildlife Service

[FWS-R3-ES-2009-N0083]; [30120-1113-0000-F6]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before May 18, 2009.

ADDRESSES: Send written comments by electronic mail to permitsR3ES@fws.gov or by U.S. mail to the Regional Director, Attn: Peter Fasbender, U.S. Fish and Wildlife Service, Ecological Services, 1 Federal Drive, Fort Snelling, MN 55111-4056.

FOR FURTHER INFORMATION CONTACT: Peter Fasbender, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations at 50 CFR part 17. Submit your written data, comments, or request for a copy of the complete application to one of the addresses shown in ADDRESSES. When submitting comments, please refer to the appropriate permit application number.

Permit Applications

Permit Application Number: TE212393.

Applicant: Kenneth Mierzwa, Eureka, California.

The applicant requests a permit to take (capture and release) Hines' emerald dragonfly (Somatochlora hineana) adults and larvae in Will County, Illinois, for the purpose of population monitoring and recovery of the species. Proposed activities are for the purpose of enhancement of survival of the species in the wild.

Permit Application Number: TE212417.

Applicant: Central Lake Superior Land Conservancy, Marquette, Michigan.

The applicant requests a permit to take (harass, salvage) piping plover (Charadrius melodus) along the Great Lakes shoreline in the proximity of Grand Marais and Gulliver, Michigan. Take is in the form of nest monitoring and protection activities and abandoned egg salvage for the purpose of cooperating with the U.S. Fish and Wildlife Service on captive breeding and release. Proposed activities are aimed at enhancement of the survival of the species in the wild.

Permit Application Number: TE212423.

Applicant: Jessica Brzyski, Cincinnati, Ohio.

The applicant requests a permit renewal to take (collect) federally threatened Virginia Spirea (Spireaea virginiana) on Federal lands in Kentucky, West Virginia, and Tennessee. Proposed collection of leaf tissue and seeds for recovery research is for the enhancement of propagation and survival of the species in the wild.

Permit Application Number: TE212420.

Applicant: John Vucetich, Houghton, Michigan.

The applicant requests a permit renewal to take (capture and release; salvage) gray wolf (Canis lupus) within Isle Royale National Park, Michigan, for recovery research aimed at enhancement of the survival of the species in the wild.

Permit Application Number: TE212425.

Applicant: Ecology & Environment, Inc., Lancaster, New York.

The applicant requests a permit to take (capture and release) the American burying beetle (Nicrophorus americanus) throughout the range of the species (Rhode Island, Oklahoma, Arkansas, Nebraska, and Ohio) to document presence or absence of the species. Activities are proposed to enable wind energy project proponents to avoid impacts to the species in the interest of enhancing survival of the species in the wild.

Permit Application Number: TE212427.

Applicant: Ecology & Environment, Inc., Lancaster, New York.

The applicant requests a permit to take (capture and release) Indiana bats (Myotis sodalis), gray bats (Myotis grisescens) and Ozark big-eared bat (Corynorhinus townscendii ingens) throughout Ohio, Missouri, Arkansas, Oklahoma, Indiana, and Illinois. The activities proposed under this permit application include presence or absence surveys, studies to document habitat use, population monitoring, and evaluation of potential impacts of proposed projects. Activities are proposed for enhancement of the survival of the species in the wild.

Permit Application Number: TE212430.

Applicant: Dr. Francesca Cuthbert, University of Minnesota, St. Paul, Minnesota.

The applicant requests a permit renewal to take piping plover in Michigan and Wisconsin. The research entails capture and marking of piping plovers, erecting nesting enclosures to improve nesting success, and salvaging eggs and nestlings to enhance the survival of the species in the wild.

Permit Application Number: TE182430.

Applicant: Nicholas Owens, Oak Brook, Illinois.

The applicant requests a permit amendment to take (capture and release) federally listed mussels within the State of Iowa. Species included on Mr. Owens' existing permit are: Fanshell (Cyprogenia stegaria), pink mucket (Lampsilis abrupta), Higgins' Eye (Lampsilis higginsii), orangefoot pimpleback (Plethobasus cooperianus), clubshell (Pleurobema clava), fat pocketbook (Potamilus capax), rough pigtoe (Pleurobema plenum), and Northern riffleshell (Epioblasma torulosa rangiana). Proposed activities are for enhancement of the survival of the species in the wild.

Permit Application Number: TE152002.

Applicant: Stantec Consulting Services, Louisville, Kentucky.

The applicant requests a permit amendment to take (capture and release) Carolina northern flying squirrel (Glaucomys sabrinus coloratus) and bog turtle (Clemmys muhlenbergii) to the list of approved species on their existing fish and wildlife permit. Activities for the Carolina northern flying squirrel are proposed for Tennessee, North Carolina, and Virginia. Activities for the bog turtle are proposed for Connecticut, Delaware, Georgia, Maryland, Massachusetts, New Jersey, New York, North Carolina, Pennsylvania, Tennessee, and Virginia. Proposed surveys are aimed at enhancement of the survival of the species in the wild.

Permit Application Number: TE212435.

Applicant: David Zanatta, Central Michigan University, Mount Pleasant, Michigan.

The applicant requests a permit to take (capture and release) Northern riffleshell and Clubshell in the Black River watershed and St. Joseph River watershed in the State of Michigan. Proposed surveys to determine species presence and abundance are aimed at enhancement of the survival of the species in the wild.

Permit Application Number: TE023664.

Applicant: Environmental Solutions & Innovations, Inc., Cincinnati, Ohio.

The applicant requests a permit amendment to authorize personnel to work under the authority of their existing permit for federally listed bat species. The proposed amendment is for the enhancement of survival of the species in the wild.

Permit Application Number: TE212440.

Applicant: Bat Conservation and Management, Carlisle, Pennsylvania.

The applicant requests a permit to take (capture and release) Indiana bats and gray bats within Iowa, Illinois, Indiana, Missouri and Ohio. Proposed activities include presence/absence surveys, studies to document habitat use, and population monitoring in the interest of recovery and enhancement of the survival of the species in the wild.

Permit Application Number: TE842313.

Applicant: Dr. Everett D. Cashatt, Illinois State Museum, Springfield, Illinois.

The applicant requests a permit amendment to take (collect) Hines' emerald dragonfly in Missouri and to include additional personnel in activities authorized on his existing fish and wildlife permit. The proposed activities are for scientific research in the interest of species recovery.

Public Comments

We solicit public review and comments on these permit applications. Please refer to the permit number when you submit comments. Comments and materials we receive are available for public inspection, by appointment, during normal business hours at the street address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the activities proposed in these permits are categorically excluded from the requirement to prepare an environmental assessment or environmental impact statement (516 DM6 Appendix 1, 1.4C(1)).

Dated: April 10, 2009.
Lynn M. Lewis,
Assistant Regional Director, Ecological Services, Region 3.

[FR Doc. E9-8819 Filed 4-16-09; 8:45 am]

BILLING CODE 4310-55-P